NATIONAL AERONAUTICS AND SPACE ADMINISTRATION

[Notice (11-043)]

Aerospace Safety Advisory Panel; Meeting

AGENCY: National Aeronautics and Space Administration (NASA).

ACTION: Notice of meeting; correction.

Federal Register Citation of Previous Announcement: 76 FR 19147, Notice Number 11-030, April 6, 2011.

SUMMARY: The National Aeronautics and Space Administration published a document in the Federal Register of April 6, 2011, announcing a meeting of the Aerospace Safety Advisory Panel (ASAP) to take place on April 29, 2011, at the Kennedy Space Center, FL. Due to the STS-134 Space Shuttle launch now set for April 29, 2011 at the Kennedy Space Center, the ASAP public meeting has a new date and location.

Correction: Date and time of ASAP public meeting is now Tuesday, May 24, 2011, 11 a.m. to 1 p.m. at the Cape Canaveral Public Library, Public Meeting Room, 201 Polk Avenue, Cape Canaveral, FL 32920.

FOR FURTHER INFORMATION CONTACT: Ms. Kathy Dakon, ASAP Executive Director, National Aeronautics and Space Administration, Washington, DC 20546, (202) 358-0732.

Dated: April 21, 2011.
P. Diane Rausch,
Advisory Committee Management Officer, National Aeronautics and Space Administration.

[FR Doc. 2011-10114 Filed 4-25-11; 8:45 am]

BILLING CODE 7510-13-P